OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 213.103.

FOR FURTHER INFORMATION CONTACT: Glenda Haendschke, Acting Group Manager, Executive Resources Services Group, Center for Performance Management System and Evaluation, Division for Human Capital Leadership and Merit System Accountability, 202-606-2246.

SUPPLEMENTARY INFORMATION: Appearing in the listing below are the individual authorities established under Schedules A, B, and C between August 1, 2009, and August 31, 2009.

These notices are published monthly in the Federal Register at http://www.gpoaccess.gov/fr/. A consolidated listing of all authorities as of June 30 is published each year. The following schedules are not codified in the code of Federal Regulations. These are agency specific exceptions.

Schedule A

No Schedule A authority to report.

Schedule B

No Schedule B authority to report.

Schedule C

The following Schedule C appointments were approved during August 2009.

Office of Management and Budget

BOGS90034 Special Assistant to the Director Office of Management and Budget. Effective August 5, 2009.

Office of National Drug Control Policy

QQGS90009 Associate Director for Intergovernmental Affairs. Effective August 19, 2009.

Office of Personnel Management

PMGS31418 Constituent Services Representative to the Director, Office of Congressional Relations. Effective August 14, 2009.

Department of State

DSGS69981 Senior Advisor to the Under Secretary for Public Diplomacy and Public Affairs. Effective August 4, 2009.

DSGS70004 Special Assistant to the Assistant Secretary for African Affairs. Effective August 4, 2009.

DSGS69974 Foreign Policy Analyst for the Assistant Secretary Oceans, International Environment and Science Affairs. Effective August 10, 2009.

DSGS70019 Staff Assistant to the Assistant Secretary for Public Affairs. Effective August 11, 2009.

DSGS69976 Special Assistant to the Under Secretary for Management. Effective August 12, 2009.

DSGS69921 Staff Assistant to the Director, Policy Planning Staff. Effective August 17, 2009.

DSGS69925 Congressional Inquiry Specialist for the Assistant Secretary for Legislative and Intergovernmental Affairs. Effective August 17, 2009.

DSGS69929 Chief of Staff to the Assistant Secretary for Legislative and Intergovernmental Affairs. Effective August 17, 2009.

DSGS69973 Staff Assistant to the Deputy Secretary. Effective August 17, 2009.

DSGS69977 Staff Assistant, Senior Gifts Officer to the Chief of Protocol. Effective August 17, 2009.

DSGS69944 Staff Assistant to the Senior Advisor to the Secretary and White House Liaison. Effective August 18, 2009.

DSGS69952 Supervisory Protocol Officer—Visits. Effective August 18, 2009.

DSGS69927 Staff Assistant to the Assistant Secretary for Consular Affairs. Effective August 19, 2009.

DSGS69983 Special Assistant to the Counselor. Effective August 21, 2009.

Department of the Treasury

DYGS00425 Special Assistant to the Under Secretary for International Affairs. Effective August 7, 2009.

DYGS00523 Senior Advisor to the Assistant Secretary for Financial Stability. Effective August 7, 2009.

DYGS00455 Special Assistant to the Financial Restructuring Specialist. Effective August 14, 2009.

DYGS00485 Special Assistant to the Deputy Executive Secretary. Effective August 14, 2009.

DYGS60351 Senior Advisor to the Assistant Secretary (Public Affairs). Effective August 14, 2009.

Department of Defense

DDGS17189 Speechwriter to the Special Assistant for Speechwriting. Effective August 3, 2009.

DDGS17241 Defense Fellow to the Special Assistant to the Secretary of Defense for White House Liaison. Effective August 3, 2009.

DDGS17242 Defense Fellow to the Special Assistant to the Secretary of Defense for White House Liaison. Effective August 3, 2009.

DDGS17251 Staff Assistant to the Special Assistant to the Secretary of Defense for White House Liaison. Effective August 11, 2009.

DDGS17252 Advance Officer to the Director, Advance Office. Effective August 19, 2009.

DDGS17253 Advance Officer to the Director, Advance Office. Effective August 19, 2009.

Department of the Navy

DNGS09147 Special Assistant to the Deputy Under Secretary of the Navy for Business Operations and Transformation. Effective August 5, 2009.

DNGS09148 Special Assistant to the Principal Deputy of the Navy for Plans, Policy, Oversight and Integration. Effective August 5, 2009.

DNGS09149 Special Assistant to the Deputy Under Secretary of the Navy for Business Operations and Transformation. Effective August 5, 2009.

DNGS09151 Special Assistant to the Deputy Under Secretary of the Navy for Business Operations and Transformation. Effective August 5, 2009.

DNGS09152 Attorney Advisor to the Deputy General Counsel. Effective August 5, 2009.

DNGS09153 Special Assistant to the Under Secretary of the Navy. Effective August 5, 2009.

DNGS09154 Special Assistant to the Deputy Under Secretary of the Navy for Business Operations and Transformation. Effective August 7, 2009.

DNGS09150 Special Assistant to the Under Secretary of the Navy. Effective August 10, 2009.

DNGS09157 Special Assistant to the Deputy Under Secretary of the Navy for Business Operations and Transformation. Effective August 11, 2009.

Department of Justice

DJGS00541 Counsel to the Deputy Attorney General. Effective August 12, 2009.

DJGS00540 Counsel to the Assistant Attorney General. Effective August 14, 2009.

DJGS00542 Staff Assistant to the Director. Effective August 21, 2009.

DJGS00544 Counselor to the Assistant Attorney General (Legal Policy). Effective August 26, 2009.

Department of Homeland Security

DMGS00692 Director of Congressional Relations. Effective August 5, 2009.

DMGS00835 Senior Advisor to the Chief of Staff. Effective August 18, 2009.

DMGS00807 Special Assistant to the Chief of Staff. Effective August 19, 2009.

Department of the Interior

DIGS01169 Special Assistant to the Assistant Secretary Policy Management and Budget. Effective August 14, 2009.

DIGS70007 Special Assistant to the Director of National Park Service. Effective August 24, 2009.

Department of Agriculture

DAGS00172 Staff Assistant to the Assistant Secretary for Congressional Relations. Effective August 13, 2009.

DAGS00174 Confidential Assistant to the Assistant Secretary for Congressional Relations. Effective August 27, 2009.

Department of Commerce

DCGS00012 Confidential Assistant to the Deputy Assistant Secretary for Administration. Effective August 6, 2009.

DCGS60006 Director of Scheduling and Advance for the Chief of Staff for International Trade Administration. Effective August 11, 2009.

DCGS60527 Executive Assistant to the Secretary. Effective August 11, 2009.

DCGS00643 Special Assistant to the Under Secretary of Commerce for Intellectual Property and Director of the US Patent and Trademark Office. Effective August 12, 2009.

DCGS00367 Special Assistant to the Director, Office of Legislative Affairs. Effective August 14, 2009.

DCGS00653 Director of Advisory Committees for the Assistant Secretary for Manufacturing and Services. Effective August 14, 2009.

DCGS00608 Confidential Assistant to the Chief of Staff for the Deputy Secretary. Effective August 17, 2009.

DCGS00465 Confidential Assistant to the Director Office of White House Liaison. Effective August 21, 2009.

DCGS00500 Senior Advisor and Director of Public Affairs for the Under Secretary for International Trade. Effective August 25, 2009.

DCGS00561 Special Assistant to the Under Secretary of Commerce for Intellectual Property and Director of the US Patent and Trademark Office. Effective August 27, 2009.

DCGS00696 Deputy Director of Legislative Affairs, International Trade Administration. Effective August 28, 2009.

Department of Labor

DLGS60163 Chief of Staff to the Assistant Secretary for Occupational Safety and Health. Effective August 11, 2009.

DLGS60209 Special Assistant to the Assistant Secretary for Veterans Employment and Training. Effective August 12, 2009.

DLGS60182 Special Assistant to the Deputy Secretary of Labor. Effective August 14, 2009.

DLGS60007 Special Assistant to the Director of Public Engagement. Effective August 17, 2009.

DLGS60130 Legislative Assistant to the Assistant Secretary for Congressional and Intergovernmental Affairs. Effective August 17, 2009.

DLGS60144 Special Assistant to the Director of Public Engagement. Effective August 17, 2009.

DLGS60190 Legislative Officer for the Assistant Secretary for Congressional and Intergovernmental Affairs. Effective August 20, 2009.

DLGS60262 Special Assistant to the Deputy Secretary of Labor. Effective August 26, 2009.

DLGS60045 Staff Assistant to the Deputy Assistant Secretary. Effective August 27, 2009.

DLGS60218 Special Assistant to the Deputy Assistant Secretary. Effective August 27, 2009.

Department of Health and Human Services

DHGS60268 Special Assistant to the Deputy Assistant Secretary for Legislation (Health Policy). Effective August 4, 2009.

DHGS60523 Executive Director, President's Council on Physical Fitness and Sports to the Assistant Secretary, Health. Effective August 4, 2009.

DHGS60571 Confidential Assistant (Scheduling) to the Director of Scheduling and Advance. Effective August 4, 2009.

DHGS60015 Deputy Director, Center for Faith Based and Community Initiatives. Effective August 5, 2009.

DHGS60679 Confidential Assistant to the Director, Office of External Affairs. Effective August 5, 2009.

DHGS60514 Confidential Assistant (Immediate Office) to the Assistant Secretary for Children and Families. Effective August 20, 2009.

DHGS60009 Confidential Assistant to the Assistant Secretary for Preparedness and Response for Public Health Emergency Preparedness. Effective August 28, 2009.

DHGS60036 Confidential Assistant to the Director of Intergovernmental Affairs. Effective August 28, 2009.

DHGS60059 Deputy Director for Regional Outreach to the Director of Intergovernmental Affairs. Effective August 28, 2009.

DHGS60081 Special Assistant to the Director, Office of Global Health Affairs. Effective August 28, 2009.

DHGS60485 Director of Communications for the Assistant Secretary, Health. Effective August 28, 2009.

DHGS60030 Confidential Assistant to the General Counsel. Effective August 31, 2009.

DHGS60066 Confidential Assistant to the Deputy Chief of Staff. Effective August 31, 2009.

DHGS60462 Special Assistant (Office of Health Reform) to the Principal Deputy Assistant Secretary for Planning and Evaluation. Effective August 31, 2009.

DHGS60464 Confidential Assistant (Office of Health Reform) to the Principal Deputy Assistant Secretary for Planning and Evaluation. Effective August 31, 2009.

DHGS60465 Special Assistant (Office of Health Reform) to the Principal Deputy Assistant Secretary for Planning and Evaluation. Effective August 31, 2009.

DHGS60466 Director of Outreach (Office of Health Reform) to the Principal Deputy Assistant Secretary for Planning and Evaluation. Effective August 31, 2009.

Department of Education

DBGS00542 Special Assistant to the Deputy Secretary of Education. Effective August 10, 2009.

DBGS00223 Special Assistant to the Senior Advisor on Early Learning. Effective August 12, 2009.

DBGS00641 Chief of Staff to the Deputy Secretary of Education. Effective August 12, 2009.

DBGS00664 Chief of Staff to the Under Secretary. Effective August 12, 2009.

DBGS00299 Special Assistant to the Assistant Secretary for Elementary and Secondary Education. Effective August 14, 2009.

DBGS00355 Confidential Assistant to the Chief of Staff. Effective August 14, 2009.

DBGS00662 Special Assistant to the Deputy Assistant Secretary for External Affairs and Outreach Services. Effective August 14, 2009.

DBGS00657 Confidential Assistant to the Deputy Secretary of Education. Effective August 20, 2009.

DBGS00468 Special Assistant to the Chief of Staff. Effective August 25, 2009.

Department of Energy

DEGS00766 Special Assistant to the Assistant Secretary (Energy Efficiency and Renewable Energy). Effective August 11, 2009.

DEGS00767 Special Assistant to the Director, Office of Science. Effective August 11, 2009.

DEGS00768 Special Assistant to the Chief Financial Officer. Effective August 20, 2009.

Small Business Administration

SBGS00634 Regional Administrator (Region I) to the Associate Administrator for Field Operations. Effective August 27, 2009.

SBGS60173 Regional Administrator, Region VI, to the Associate Administrator for Field Operations. Effective August 27, 2009.

SBGS60174 Regional Administrator to the Associate Administrator for Field Operations. Effective August 27, 2009.

SBGS00668 Senior Advisor to the Associate Administrator for Field Operations. Effective August 31, 2009.

SBGS60170 Regional Administrator, Region VIII, to the Associate Administrator for Field Operations. Effective August 31, 2009.

Export-Import Bank

EBSL94047 Senior Vice President, Communications to the President and Chairman. Effective August 24, 2009.

Commission on Civil Rights

CCGS60011 Special Assistant to the Vice Chairman. Effective August 25, 2009.

Commodity Futures Trading Commission

CTOT00065 Director, Division of Market Oversight to the Chairperson. Effective August 7, 2009.

Department of Housing and Urban Development

DUGS60326 Staff Assistant to the Chief of Staff. Effective August 11, 2009.

DUGS60036 Special Assistant to the Chief of Staff. Effective August 26, 2009.

Department of Transportation

DTGS60129 Counselor to the General Counsel. Effective August 5, 2009.

DTGS60460 Director of Public Affairs for the Administrator. Effective August 14, 2009.

DTGS60400 Associate Administrator for Policy and Governmental Affairs to the Administrator. Effective August 25, 2009.

Authority: 5 U.S.C. 3301 and 3302; E.O. 10577, 3 CFR 1954-1958 Comp., p. 218.

Office of Personnel Management.
John Berry,
Director.

[FR Doc. E9-25293 Filed 10-20-09; 8:45 am]

BILLING CODE 6325-39-P